DEPARTMENT OF DEFENSE

Department of the Army

Privacy Act of 1974; System of Records

AGENCY: Department of the Army, DoD.

ACTION: Notice to amend systems of records.

SUMMARY: The Department of the Army is amending one system of records notice in its existing inventory of records systems subject to the Privacy Act of 1974, (5 U.S.C. 552a), as amended.

In addition, the Preamble to the Army's Compilation of Privacy Act systems of records notices is being updated to revise two entries, i.e., For Further Assistance and Points of Contact.

DATES: This proposed action will be effective without further notice on October 8, 2003, unless comments are received which result in a contrary determination.

ADDRESSES: Department of the Army, Freedom of Information/Privacy Act Office, U.S. Army Records Management and Declassification Agency, ATTN: TAPC-PDD-FP, 7798 Cissna Road, Suite 205, Springfield, VA 22153-3166.

FOR FURTHER INFORMATION CONTACT: Ms. Janice Thornton at (703) 806-7137 / DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: August 29, 2003.
Patricia Toppings,
Alternate OSD Federal Register Liaison Officer, Department of Defense.

* * * * *

For Further Assistance

Any questions should be addressed to the Department of the Army, Freedom of Information/Privacy Act Division, U.S. Army Records Management and Declassification Agency, ATTN: TAPC-PDD-FP, 7798 Cissna Road, Suite 205, Springfield, VA 22153-3166.

Points of Contact

Mr. Bruno C. Leuyer at (703) 806-5698/DSN 656-5698 or Ms. Janice Thornton at (703) 806-7137/DSN 656-7137.

* * * * *

A0601-222 USMEPCOM

System name:

Armed Services Military Accession Testing (November 20, 2001, 66 FR 58129).

Changes:

* * * * *

Categories of individuals covered by the system:

Delete entry and replace with “Individuals who have been administered a version of the Armed Services Vocational Aptitude Battery (ASVAB), to include those who subsequently enlisted and those who did not. This applies to high school, college, National Civilian Community Corps, and vocational students who have participated in the DoD Student Testing Program (STIP), as well as civilian applicants to the military services and active duty Service members.”

* * * * *

Purpose(s):

Delete entry and replace with “To establish eligibility for enlistment; verify enlistment and placement scores; verify retest eligibility; and provide aptitude test scores as an element of career guidance to participants in the DoD Student Testing Program. The data is also used for research, marketing evaluation, assessment of manpower trends and characteristics; and related statistical studies and reports.”

* * * * *

Storage:

Delete entry and replace with “Computer magnetic tapes and electronic storage media”.

* * * * *

Safeguards:

Delete entry and replace with “Access to records is restricted to authorized personnel having an official need-to-know. Automated data systems are protected by user identification and manual controls.”

* * * * *

A0601-222 USMEPCOM

System name:

Armed Services Military Accession Testing.

System location:

U.S. Military Entrance Processing Command, 2834 Green Bay Road, North Chicago, IL 60064-3094.

Categories of individuals covered by the system:

Individuals who have been administered a version of the Armed Services Vocational Aptitude Battery (ASVAB), to include those who subsequently enlisted and those who did not. This applies to high school, college, National Civilian Community Corps, and vocational students who have participated in the DoD Student Testing Program (STIP), as well as civilian applicants to the military services and active duty Service members.

Categories of records in the system:

Individual’s name, Social Security Number, address, telephone number, date of birth, sex, ethnic group identification, educational grade, rank, booklet number of ASVAB test, individual's plans after graduation, and individual item responses to ASVAB subtests.

Authority for maintenance of the system:

10 U.S.C. 133, Under Secretary of Defense for Acquisition, Technology, and Logistics; 10 U.S.C. 3013, Secretary of the Army; Army Regulation 601-222, Armed Services Military Personnel Accession Testing Programs; and E.O. 9397 (SSN).

Purpose(s):

To establish eligibility for enlistment; verify enlistment and placement scores; verify retest eligibility; and provide aptitude test scores as an element of career guidance to participants in the DoD Student Testing Program. The data is also used for research, marketing evaluation, assessment of manpower trends and characteristics; and related statistical studies and reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Computer magnetic tapes and electronic storage media.

Retrievability:

By individual's name and Social Security Number.

Safeguards:

Access to records is restricted to authorized personnel having an official need-to-know. Automated data systems are protected by user identification and manual controls.

Retention and disposal:

Disposition pending (until the National Archives and Records Administration has approved the disposition, treat records as permanent).

System manager(s) and address:

Commander, U.S. Military Entrance Processing Command, 2834 Green Bay Road, North Chicago, IL 60064-3094.

Notification procedure:

Individuals seeking to determine whether information about themselves is contained in this system should address written inquiries to the Commander, U.S. Military Entrance Processing Command, 2834 Green Bay Road, North Chicago, IL 60064-3094.

Individual should provide his/her full name, Social Security Number, date tested, address at the time of testing, and signature.

Record access procedures:

Individuals seeking access to information about them contained in this system should address written inquiries to the Commander, U.S. Military Entrance Processing Command, 2834 Green Bay Road, North Chicago, IL 60064-3094.

Individual should provide his/her full name, Social Security Number, date tested, address at the time of testing, and signature.

Contesting record procedures:

The Army's rules for accessing records, and for contesting contents and appealing initial agency determinations are contained in Army Regulation 340-21; 32 CFR part 505; or may be obtained from the system manager.

Record source categories:

From the individual and ASVAB tests.

Exemptions claimed for the system:

Testing or examination material used solely to determine individual qualifications for appointment or promotion in the Federal service may be exempt pursuant to 5 U.S.C. 552a(k)(6), if the disclosure would compromise the objectivity or fairness of the test or examination process.

An exemption rule for this system has been promulgated in accordance with requirements of 5 U.S.C. 553(b)(1), (2), and (3), (c), and (e) and published in 32 CFR part 505. For additional information contact the system manager.

[FR Doc. 03-22690 Filed 9-5-03; 8:45 am]

BILLING CODE 5001-08-P